DEPARTMENT OF COMMERCE

National Oceanic and Atmospheric Administration

[Docket No. 010327081-1081-01]

Financial Assistance To Establish New Cooperative Science Centers Under NOAA's Educational Partnership Program With Minority Serving Institutions in Atmospheric, Oceanic and Environmental Sciences and Remote Sensing at Minority Serving Institutions

AGENCY: Office of Finance and Administration (OFA), National Oceanic and Atmospheric Administration (NOAA), Commerce.

ACTION: Notice of criteria for establishing Cooperative Science Centers in Atmospheric, Oceanic and Environmental Sciences and Remote Sensing at Minority Serving Institutions; and notice of availability of funds and solicitation for proposals for these funds.

SUMMARY: NOAA announces the availability of funds, through a competitive process, to establish new Cooperative Science Centers at accredited post secondary minority serving institutions. These Centers will be established as partnerships between the institution(s) and NOAA, with the goal of expanding the institution's training and research capabilities and supporting the development of programs compatible with NOAA's mission. The Cooperative Centers will be established in the NOAA core science areas in atmospheric, oceanic and environmental sciences (AOES) and remote sensing.

The Centers will support activities that strengthen the research capability of minority serving institutions with accredited graduate programs and graduate degrees in AOES and related sciences. An essential goal of this program is to seek ways to improve opportunities for, and retention of, students and faculty from underrepresented groups in the NOAA related sciences, at MSIs, with the eventual goal of increasing the number of students graduating in AOES and related sciences. The overall program strategies include enhanced collaborative research opportunities and experiences for the faculty and students with NOAA research facilities, strengthening the infrastructure at minority serving institutions that serve underrepresented groups, and supporting staff exchanges between NOAA and MSIs.

A Distinguished Professorship will be created at each of the Science Centers. These professors will be required to develop significant research projects for their respective Centers with other professors and students. Staff and faculty exchanges will also be available as part of this program, and opportunities will be made available to participate in collaborative research or other agreed upon activities. Where appropriate, NOAA staff may be utilized to teach courses, develop curricula or conduct joint research.

NOAA expects the Centers to develop mechanisms and approaches to increase opportunities to make courses and seminars offered at the Centers available to students at other MSIs. Centers will also be required to utilize a minimum of twenty five percent (25%) of the award for student support, which includes, but is not limited to, scholarships, fellowships, travel expenses to professional meetings and for conducting site research. While the Centers will be established at MSIs, consortia with non-minority serving institutions will not be restricted.

DATES: Applications must be received by NOAA OFA no later than 4 p.m., Eastern Daylight Savings Time on May 31, 2001. No facsimile or electronic mail applications will be accepted. Institutions may submit Letters of Intent to NOAA/OFA that would aid in planning the review processes. Potential PIs are asked to submit Letters of Intent 30 days after publication of this Federal Register Notice. Letters of Intent can be submitted via E-Mail to Jacqueline.J.Rousseau@noaa.gov. Information should include a general description of the Center proposal and participating institutions.

ADDRESSES: Send the original and two copies of the application to: Jacqueline J. Rousseau, Acting Program Manager, Office of Finance and Administration, National Oceanic and Atmospheric Administration, 1305 East-West Highway, SSMCIV Room 4162, Silver Spring, Maryland 20910.

FOR FURTHER INFORMATION CONTACT: Jacqueline Rousseau at (301) 713-0325.

SUPPLEMENTARY INFORMATION:

I. Authorities

15 U.S.C. 1540, 49 U.S.C. 44720, 33 U.S.C. 883d, 33 U.S.C. 1442, 16 U.S.C. 1854(e), 16 U.S.C. 661, 16 U.S.C. 753(a), 16 U.S.C. 1451 et seq., 16 U.S.C. 1431, 33 U.S.C. 883a and Executive Orders 12876, 12900 and 13021.

II. Catalog of Federal Domestic Assistance

This program is described in the “Catalog of Federal Domestic Assistance” under program number 11.481—Education Partnership Program with Minority Serving Institutions.

III. Program Description

The National Oceanic and Atmospheric Administration's (NOAA) mission is to describe and predict changes in the Earth's environment, and conserve and manage wisely the Nation's coastal and marine resources to ensure sustainable economic opportunities. NOAA envisions a 21st century in which environmental stewardship, monitoring, assessment and prediction serve as keystones to enhancing economic prosperity and quality of life, better protecting lives and property, and strengthening the U.S. balance of trade. This vision depends on actions now that:

1. Create and disseminate reliable assessments and predictions of weather, climate, space environment, ocean and living marine resources, nautical, and geodetic phenomena and systems;

2. Implement integrated approaches to environmental management and ocean and coastal resources development for economic and social health;

3. Ensure continuous operational observing capabilities—from satellites to ships to radars;

4. Build and use new information networks;

5. Develop public-private and international partnerships for the expansion and transfer of environmental knowledge and technologies;

6. Invest in scientific research and the development of new technologies to improve current operations and prepare for the future; and,

7. Improve NOAA's abilities to serve its customers and forge stronger ties with its partners and stakeholders.

Institutions will have an opportunity to compete for an award to establish a Center based on specific criteria outlined below.

Specific Criteria for AOES and Remote Sensing Cooperative Science Centers

Atmosphere Cooperative Science Center: The Cooperative Science Center for Atmosphere should address the ability to conduct collaborative research in numerical weather prediction, data assimilation, climate modeling, climate analysis and prediction, and studies that lead to improvements in warning and forecast operations. Atmospheric Center graduates should meet the National Weather Service's course requirements for meteorologists which include:

(1) Twenty four (24) semester hours in meteorology including six semester hours in weather analysis and prediction of weather systems (synoptic/mesoscale); six semester hours of atmospheric dynamics and thermodynamics; three semester hours of physical meteorology; and two semester hours of remote sensing of the atmosphere and/or instrumentation;

(2) Six semester hours of physics with at least one course that includes laboratory sessions;

(3) Three semester hours of ordinary differential equations; and,

(4) Nine semester hours of course work appropriate for a physical science major in any combination of three or more of the following: Physical hydrology, statistics, chemistry, physical oceanography, physical climatology, radiative transfer, aeronomy, advanced thermodynamics, advanced electricity and magnetism, light and optics, computer science. There is a prerequisite or co-requisite of calculus for course work in atmospheric dynamics and thermodynamics, physics, and differential equations. Calculus courses must be appropriate for a physical science major. The Center's proposal should address how its graduates will meet these course requirements.

Living Marine Resources Cooperative Science Center (Ocean Cooperative Science Center) Living Marine Resources (LMR) Cooperative Science Center proposals should address the ability to support education and research in Marine Science including an emphasis on the following: Biological assessments; stock assessment; marine chemical assessments; habitat quality, coastal ecology—including ecosystem monitoring; remote sensing and GIS mapping; biodiversity; essential fish habitat; fishery economics; fishery-related social sciences and fishery biology, to include reproduction and food habitats; systematics and taxonomy; biotechnology; aquaculture; and enhancement.

Graduates must be able to carry out a variety of tasks including: predicting population trends of LMR; developing harvest strategies that maintain sustainable yields of renewable resources; analyzing the social and economic impacts of various management decisions on communities by decisions related to LMR; in addition to designing and carrying out projects for LMR.

Environment Cooperative Science Center: Coastal Environmental Cooperative Science Center proposals should address the ability to respond to coastal and ocean threats, restore damaged areas, manage coastal and ocean resources and support maritime commerce. Key areas of focus could include:

1. Supporting navigation of ships and boats in and out of ports and along our coasts in ways that are safe for both humans and the environment;

2. Understanding, predicting, assessing, managing, and communicating the impacts of human and natural stresses on coastal ocean ecosystems, including impacts from climate change, pollution, land and resource use, invasive species, and extreme natural events; and,

3. Developing the natural, social, and economic bases for integrated coastal and ocean management.

Remote Sensing Cooperative Science Center: This Center will have particular emphasis in environmental satellite-related research activities directed toward helping to sustain healthy coasts, to build sustainable fisheries, to recover protected species, to provide improved environmental forecasts or analyses, and to prepare for future NOAA operational environmental satellite missions. The Center will be expected to:

1. Provide an organizational setting to promote and establish programs and related research relating to remote sensing by drawing upon multiple disciplines and involving collaboration with multiple performing and research-sponsoring partners;

2. Serve as a model for outreach, input, and collaboration that help ensure that research can be applied to solving priority NOAA remote sensing, current satellite system optimization, and future satellite system development and planning;

3. Expand research in remote sensing, satellite data management, and user access technologies; and,

4. Support multi-disciplinary research projects aimed at NOAA's remote sensing mission responsibilities, to include: (a) Passive radiometric remote sensing; (b) Passive multi-spectral remote sensing; (c) High spectral resolution (hyperspectral) remote sensing; (d) Active and passive microwave remote sensing; (e) Satellite sensor development and demonstration in the categories above; (f) technologies relating to satellite data acquisition, data distribution, mission operations, and mission planning; and, (g) Technologies relating to improved user data access and data management. Through such multi-disciplinary research, explore new approaches to enhance the use of present and future environmental satellites to meet the rapidly changing environmental needs of the Nation.

Rationale

NOAA has made a commitment to the recruitment and retention of minority employees, trained in NOAA related sciences, to conduct the ongoing mission of the agency. In an attempt to fulfill this commitment, the agency established a program aimed at partnering with Minority Serving Institutions (MSIs) that train and graduate students in the areas of atmospheric, oceanic and environmental sciences and remote sensing. Since approximately 40% of minority students receive their undergraduate degrees at MSIs, direct collaboration with MSIs, therefore, is an effective way to increase the number of minority students trained and graduating with degrees in NOAA-related fields who may become engaged in research and select careers compatible with the agency's mission.

Statistics from the National Science Foundation Science and Engineering Indicators 2000 Report illustrate that the number of minority students receiving Doctoral and Master's degrees in science and engineering for selected years from 1977-1997, continues to be lower than the national average. The NSF report states, for example, that in 1997 (the most recent data available) there were approximately 18,000 doctoral degrees granted in science and engineering (which includes earth atmosphere and ocean sciences) to U.S. citizens and permanent residents. Of those graduates, 607 degrees were granted to African Americans, 645 to Hispanics and 71 to American Indians and Alaska Natives. Statistics for master's degrees granted to these three groups are also disproportionately low. With such a limited pool of potential minority employees trained in NOAA related sciences, it is important that NOAA seek new ways to make students aware of the mission of the agency and to support activities that increase opportunities for students trained in NOAA related sciences.

NOAA anticipates that as the program succeeds and more minority students graduate in NOAA related sciences, the agency will have a larger pool of candidates from which to hire. An increase in the number of students trained and graduating in science and engineering will be beneficial to the nation at large, because NOAA relies on its partnerships with state, local and tribal governments as well as community interest groups to accomplish its mission.

IV. Funding Availability

This solicitation announces that funding up to $10 million will be available in FY 2001, with a maximum of $2.5 million per year, per Center. Applications in excess of $2.5 million per year per Center will not be considered.

V. Matching Requirements

The program has no matching requirements.

VI. Types of Funding Instruments

The cooperative agreement will be the funding instrument. NOAA will be substantially involved in the development of research priorities, conducting cooperative activities with recipients, exchanging staff and providing internship opportunities for students at MSIs.

VII. Eligibility Criteria

For the purposes of this program, Historically Black Colleges and Universities, Hispanic Serving Institutions and Tribal Colleges and Universities, as identified on the 2001 United States Department of Education, Accredited Post-Secondary Minority Institutions list at http://www.ed.gov/ocr/minorityinst.pdf, are eligible to apply.

VIII. Award Period

Proposals may be submitted requesting funding for up to three years.

IX. Indirect Costs

The total dollar amount of the indirect costs proposed must be the lesser of 25% of the total proposed direct costs or the amount that would be authorized as a result of applying the indirect cost rate negotiated and approved by a cognizant Federal agency prior to the proposed effective date of the award. If the applicant does not have a current negotiated rate and plans to seek reimbursement for indirect costs, documentation necessary to establish a rate must be submitted within 90 days of receiving an award.

X. Applications Forms & Grant Proposal Requirements

Proposals submitted in response to this solicitation must be complete and submitted in accordance with instructions in the standard NOAA Grants Application package. The applicant must include the following:

• Standard Form 424 Application for Federal Assistance.

• SF424A Budget Information Non-Construction Programs and budget justification narrative; SF424B Assurances Non-Construction Programs.

• CD-511 Certifications Regarding Debarment, Suspension and Other Responsibility Matters, Drug Free Workplace Requirements, and Lobbying.

• SF-LLL Disclosure of Lobbying Activities, if applicable.

• Narrative project description (Statement of Work). Budgets must also include a detailed breakdown by category of cost estimates as they relate to specific aspects of the project, with appropriate justification for the Federal share.

Proposal Requirements

Each proposal must include the items listed below.

1. All pages must be double-spaced, typewritten and should not exceed 20 pages. All information needed for review of the proposal should be included in the main text.

2. Proposals must include a Title page and Executive Summary.—The title page should identify the Center being applied for, the lead Principal Investigator's (PI) name, Partner name(s) (if any) and their respective affiliations, complete addresses, telephone, FAX, and e-mail information. The title page will also provide the total proposed cost and the proposed budget period. The title page should be signed by the PI(s) and the institutional representative of the PI's organization. The title page should be followed by a one-page Executive Summary that summarizes the salient components of the Center.

3. Proposals from multiple applicants must clearly identify the institution having primary responsibility for administering the award in addition to individual Letters of Participation signed by each participant. Letters should briefly summarize the role of the partnering institution(s), a budget and principal point of contact at the respective institution(s).

4. Proposals must include a Vitae of the PI and Principal Point of Contact for multi-institutional applications. (2 pages maximum per investigator)

5. Applications must contain a three-year Program Development Plan.

XI. Evaluation Criteria (With Weights)

Applications will be subject to a peer review by a panel of scientists who are specialists in AOES and remote sensing, and administrators familiar with the goals of the NOAA EPPMSI Programs. Proposal will be scored based on scientific and technical merit and each application will be evaluated individually against the following criteria. Applications or sub-recipients that do not allocate 25% of the total direct cost for student support which includes, but is not limited to, scholarships, fellowships, travel expenses to professional meetings and for conducting site will be returned to the applicant without review. Factors to be considered include:

1. Build infrastructure (Administrative Core)—40 Points

a. Organizational Infrastructure: Does the applicant demonstrate a multi-disciplinary approach to achieve the mission? Will the approach lead to capacity building at the institution(s) and to the development of a body of knowledge that can yield results beyond what can be accomplished with individual projects alone? Will the MSI attract established investigators or partners and develop genuine collaboration among investigators with a diverse areas of expertise, including individuals from underrepresented groups in the NOAA sciences? Does the institution, or group of institutions, have an accredited graduate program in the core sciences and adjacent disciplines that are required for the designation of a Cooperative Science Center?

b. Environment: Does the scientific, technical and administrative environment of the proposed Center contribute to excellence and the probability of success? Does the proposed Center take advantage of its scientific and administrative environments or employ useful collaborative arrangements? Is there evidence of a high level of Institutional commitment and support? Does the Center Director (Principal Investigator) have specific authority and responsibility to lead the Center? Is the Center Director located organizationally at a level to garner the support needed for the Center (i.e., reports to an appropriate institutional official)? Is the time and effort indicated for the Center Director and other supporting staff adequate to demonstrate full support for the Center?

c. Collaboration: What is the applicant's ability to build coalitions and partnerships with critical organizations and individuals (such as distinguished scientists as well as potential researchers in training, universities, colleges, research institutions, Federal, state and local partners, and other public and private nonprofit organizations) and to facilitate collaboration and coordination to assure the accomplishment of the Center's goals? How does the proposal advance the potential of the collaborative institutions to expand their degree offerings relative to the NOAA mission? Does the proposed Center allow for meaningful collaboration with any of NOAA's principal centers of research? How does this proposal demonstrate a workable partnership between the institution(s) and NOAA, whereby it expands the institution's training and research capabilities and is consistent with NOAA's mission?

d. Organization: (1) What is the quality and appropriateness of the organizational structure; (2) the quality and experience of the staff; (3) the quality of the plans for quality control through in-house consultation and outside review; and, (4) the quality of the plans for the allocating and monitoring resources?

e. Budget: What is the reasonableness of proposed budget and time frame for the project in relation to the work proposed?

2. Research Component—30 Points

a. Research Theme and Agenda: Is the concept of a Center fulfilled, i.e., is there an organizing research theme (or set of themes) and a research agenda that defines the mission of the Center?

b. Significance to NOAA: Does the proposal address issues identified as priorities to NOAA?

c. Leadership: Are the Center Director and other senior investigators recognized as leaders, or developing as leaders, in their respective fields and their academic community? Do they have the successful experience and authority to organize, administer and direct the Center?

3. Recruitment (Promote Training)—30 Points

a. What is the institution(s) record of graduating students in the sciences directly related to the Center for which the application is made?

b. Does the applicant include a research development component for students, as well as new, mid-career or transitional professionals through research training in AOES and remote sensing? What efforts are made to recruit, support and retain a diverse professional and student body?

c. To what extent does the proposal explore creative ways to attract students and faculty to increase the matriculation rate in NOAA-related sciences?

XII. Selection Procedures

Review of proposals will be conducted by an independent peer review panel. Proposals will be ranked in accordance with the above evaluation criteria (Section XI). The Selection Official may consider the following criteria in the final selection of the proposal to be funded: geographic balance; budget availability; level of overall Federal support for AOES, remote sensing and related sciences; and level of performance in previous Federal relationships.

XIII. How To Submit

An original and two copies of the proposal(s) for each Center for which the application is made must be submitted according to the requirements outlined in Section X.

XIV. General Information

A. Collaboration: Where multi institutional applications between majority and minority serving institutions are submitted, no less than 80% of the total funds shall be awarded to the MSI(s). The MSI lead cannot issue subawards more than 20% of the total project costs.

B. Equipment & Products: Any equipment or products authorized to be purchased with funding provided under this program must be American-made to the maximum extent feasible.

C. Federal Policies and Procedures Recipients and sub-recipients are subject to all Federal laws and Federal and DOC policies, regulations, and procedures applicable to Federal assistance awards.

D. Name Check Review All non-profit and for-profit applicants are subject to a name check review process. Name checks are intended to reveal if any key individuals associated with the recipient have been convicted of, or are presently facing, criminal charges such as fraud, theft, perjury, or other matters that significantly reflect on the recipient's management, honesty, or financial integrity.

E. Past Performance Unsatisfactory performance under prior Federal awards may result in an application not being considered for funding.

F. Pre-Award Activities If applicants incur any costs prior to an award being made, they do so solely at their own risk of not being reimbursed by the Government. Notwithstanding any verbal or written assurance that may have been received, there is no obligation on the part of DOC to cover pre-award costs, should an award not be made or funded at a level less than requested.

G. No Obligation for Future Funding If the application is selected for funding, the Department of Commerce (DOC) has no obligation to provide any additional future funding in connection with that award. Renewal of an award to increase funding or extend the period of performance is at the total discretion of DOC.

H. Delinquent Federal Debts No award or Federal Funds will be made to an applicant who has an outstanding delinquent Federal debt until:

(i) The delinquent account is paid in full;

(ii) A negotiated repayment schedule is established and at least one payment is received; or

(iii) Other arrangements satisfactory to DOC are made.

I. Primary Applicant Certifications

All organizations or individuals preparing grant applications must submit a completed Form CD-511 “Certifications Regarding Debarment, Suspension, and Other Responsibility Matters; Drug-Free Workplace Requirements and Lobbying,” and explanations are hereby provided:

Non-Procurement Debarment and Suspension Prospective participants (as defined at 15 CFR part 26, section 105) are subject to 15 CFR part 26, “Non-procurement Debarment and Suspension” and the related section of the certification form prescribed above applies.

Drug-Free Workplace Grantees (as defined at 15 CFR part 26, section 605) are subject to 15 CFR part 26, subpart f, “Government-wide Requirements for Drug-Free Workplace (Grants)” and the related section of the certification form prescribed above applies.

Anti-Lobbying Persons (as defined at 15 CFR part 28, section 105) are subject to the lobbying provisions of 31 U.S.C. 1352, “Limitation on use of appropriated funds to influence certain Federal contracting and financial transactions,” and the lobbying section of the certification form prescribed above applies to application/bids for grants, cooperative agreements, and contracts for more than $100,000, and loans and loan guarantees for more than $150,000.

Anti-Lobbying Disclosures Any applicant that has paid or will pay for lobbying using any funds must submit an SF-LLL, “Disclosure of Lobbying Activities,” as required under 15 CFR part 28, appendix B.

Lower-Tier Certifications Recipients shall require applicants/bidders for sub-grants, contracts, subcontracts, or other lower-tier-covered transactions at any tier under the award to submit, if applicable, a completed Form CD-512, “Certifications Regarding Debarment, Suspension, Ineligibility and Voluntary Exclusion-Lower Tier Covered Transactions and Lobbying” and disclosure form, SF-LLL, “Disclosure of Lobbying Activities.” Form CD-512 is intended for the use of recipients and should not be transmitted to DOC. SF-LLL submitted by any tier recipient or sub-recipient should be submitted to DOC in accordance with the instructions contained in the award document.

False Statements A false statement on an application is grounds for denial or termination of funds and grounds for possible punishment by a fine or imprisonment as provided in 18 U.S.C. 1001.

Intergovernmental Review Applications under this program are subject to Executive Order 12372, “Intergovernmental Review of Federal Programs.”

XV. Classification

This notice contains collection-of-information requirements subject to the Paperwork Reduction Act. The use of Standard Forms 424, 424A, 424B and SF-LLL have been approved by OMB under the respective control numbers 0348-0043, 0348-0044, 0348-0040 and 0348-0046. Notwithstanding any other provision of law, no person is required to respond to, nor shall any person be subject to a penalty for failure to comply with, a collection of information subject to the Paperwork Reduction Act, unless that collection displays a currently valid OMB control number.

Louisa Koch,
Chair, NOAA Minority Serving Institution Council.

[FR Doc. 01-8017 Filed 3-30-01; 8:45 am]

BILLING CODE 3510-12-P